DEPARTMENT OF ENERGY

Federal Energy Regulatory Commission

[Docket No. CP21-6-000]

Spire Storage West, LLC.; Notice of Availability of the Final Environmental Impact Statement for the Proposed Clear Creek Expansion Project

The staff of the Federal Energy Regulatory Commission (FERC or Commission), with the participation of the U.S. Bureau of Land Management (BLM) as a cooperating agency as described below, has prepared a final environmental impact statement (EIS) for the Clear Creek Expansion Project (Project) proposed by Spire Storage West, LLC (Spire). Spire requests authorization to expand natural gas storage at its existing Clear Creek Storage Field, modify the Clear Creek Plant to increase compression, decommission and remove facilities from the Clear Creek Plant, and move natural gas liquid storage and fueling equipment to an existing tank pad. Spire further proposes to construct pipeline connections north to the Canyon Creek Plant and south to the Kern River Gas Transmission mainline. All Project components are proposed in Uinta County, Wyoming.

The final EIS assesses the potential environmental effects of the construction and operation of the Project in accordance with the requirements of the National Environmental Policy Act (NEPA). As described in the final EIS, the FERC staff concludes that approval of the Project would result in some adverse environmental impacts; however, these impacts would be reduced to less-than-significant levels because of the impact avoidance, minimization, and mitigation measures proposed by Spire and those recommended by staff in the EIS. Regarding climate change impacts, FERC staff conclude that greenhouse gas emissions would fall below the Commission's presumptive significance threshold.

The BLM participated as a cooperating agency in preparation of this EIS. Cooperating agencies have jurisdiction by law or special expertise with respect to resources potentially affected by the proposal and participate in the NEPA analysis. The BLM provided input into the analyses, conclusions, and recommendations presented in the EIS. Following issuance of the final EIS, the BLM will issue subsequent decisions, determinations, permits, or authorizations for the Project in accordance with its own regulatory requirements. The BLM would use this EIS to satisfy compliance with NEPA and other related federal environmental laws (e.g., the National Historic Preservation Act).

The final EIS addresses the potential environmental effects of the construction and operation of the following Project facilities:

• Four compressor units and associated processing equipment at the Clear Creek Plant;

• a tank storage and natural gas liquids fueling equipment facility on an existing pad;

• 11 new injection/withdrawal wells, one new water disposal well, and associated lines;

• approximately 7 miles of 20-inch-diameter pipeline;

• approximately 3.6 miles of 24-inch-diameter pipeline; and

• other related appurtenances.

The Commission mailed a copy of the Notice of Availability of the final EIS to federal, state, and local government representatives and agencies; elected officials; environmental and public interest groups; Indian Tribes; potentially affected landowners and other interested individuals and groups; and newspapers and libraries in the area of the Project. The final EIS is only available in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the “Docket Number” field, excluding the last three digits (i.e., CP21-6). Be sure you have selected an appropriate date range. For assistance, please contact FERC Online Support at FercOnlineSupport@ferc.gov or toll free at (866) 208-3676, or for TTY, contact (202) 502-8659.

The final EIS is not a decision document. It presents Commission staff's independent analysis of the environmental issues for the Commission to consider when addressing the merits of all issues in this proceeding.

Questions?

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: March 15, 2022.
Kimberly D. Bose,
Secretary.

[FR Doc. 2022-05887 Filed 3-18-22; 8:45 am]

BILLING CODE 6717-01-P